LIBRARY OF CONGRESS

Copyright Royalty Board

37 CFR Chapter III

[Docket No. 19-CRB-0014-RM]

Notice of Inquiry Regarding Categorization of Claims for Cable or Satellite Royalty Funds and Treatment of Ineligible Claims; Extension of Comment Period

AGENCY: Copyright Royalty Board, Library of Congress.

ACTION: Notice of inquiry; extension of comment period.

SUMMARY: The Copyright Royalty Judges extend the comment period regarding the notice of inquiry regarding categorization of claims for cable or satellite royalty funds and treatment of royalties associated with invalid claims from January 29, 2020, to March 15, 2020.

DATES: The comment period for the notice of inquiry (84 FR 71852) is extended. Comments are due on or before March 16, 2020.

ADDRESSES: You may submit comments and proposals, identified by docket number 19-CRB-0014-RM, by any of the following methods:

CRB's electronic filing application: Submit comments and proposals online in eCRB at https://app.crb.gov/.

U.S. mail: Copyright Royalty Board, P.O. Box 70977, Washington, DC 20024-0977; or

Overnight service (only USPS Express Mail is acceptable): Copyright Royalty Board, P.O. Box 70977, Washington, DC 20024-0977; or

Commercial courier: Address package to: Copyright Royalty Board, Library of Congress, James Madison Memorial Building, LM-403, 101 Independence Avenue SE, Washington, DC 20559-6000. Deliver to: Congressional Courier Acceptance Site, 2nd Street NE and D Street NE, Washington, DC; or

Hand delivery: Library of Congress, James Madison Memorial Building, LM-401, 101 Independence Avenue SE, Washington, DC 20559-6000.

Instructions: Unless submitting online, commenters must submit an original, two paper copies, and an electronic version on a CD. All submissions must include a reference to the CRB and this docket number. All submissions will be posted without change to eCRB at https://app.crb.gov/ including any personal information provided.

Docket: For access to the docket to read submitted background documents or comments, go to eCRB, the Copyright Royalty Board's electronic filing and case management system, at https://app.crb.gov/, and search for docket number 19-CRB-0014-RM.

FOR FURTHER INFORMATION CONTACT: Anita Blaine, CRB Program Specialist, by telephone at (202) 707-7658 or email at crb@loc.gov.

SUPPLEMENTARY INFORMATION: On January 16, 2020, MPA-Represented Program Suppliers, Joint Sports Claimants, and Settling Devotional Claimants filed a motion with the Copyright Royalty Judges (Judges) requesting an extension of the comment period for the notice of inquiry, 84 FR 71852 (Dec. 30, 2019), in order to prepare comments that include any relevant factual evidence and economic analyses. On the same day, the Judges granted the motion extending the deadline as requested to March 16, 2020.

Dated: January 24, 2020.
Jesse M. Feder,
Chief Copyright Royalty Judge.

[FR Doc. 2020-01544 Filed 1-28-20; 8:45 am]

BILLING CODE 1410-72-P